FEDERAL MARITIME COMMISSION

[Docket No. 06-07]

Ritco International, Inc. v. Air 7 Seas Transport Logistics, Inc.; Notice of Filing of Complaint and Assignment

Notice is given that a complaint has been filed with the Federal Maritime Commission (“Commission”) by Ritco International, Inc., (“Complainant”), against Air 7 Seas Transport Logistics, Inc. (“Respondent”). Complainant contends that Respondent Air 7 Seas Transport Logistics, Inc., is an NVOCC under The Shipping Act of 1984. Complainant asserts that they booked 10 containers with Respondent to be shipped to New Delhi (India), and that the destination was verified on the house bill of lading. Complainant further asserts that under the Master Bill of Lading the destination was changed to Nhava Sheva, a port 837 miles away. Complainant contends that due to this mistake they were forced to pay demurrage and detention charges. Complainant alleges that Respondent violated Section 10(d)(1) of the Act (46 U.S.C. App. 1709(d)(1)) by failing to establish, observe, and enforce just and reasonable regulations and practices relating to or connected with receiving, handling, storing, or delivering property. Respondent prays that the Commission award Complainant for injuries in the amount of $61,618.00 (USD).

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by July 19, 2007, and the final decision of the Commission shall be issued by November 16, 2007.

Bryant L. VanBrakle,
Secretary.

[FR Doc. E6-11955 Filed 7-25-06; 8:45 am]

BILLING CODE 6730-01-P